DEPARTMENT OF COMMERCE

International Trade Administration

[A-588-835]

Oil Country Tubular Goods From Japan: Notice of Extension of Time Limit for Preliminary Results of Antidumping Duty Administrative Review

AGENCY: Import Administration, International Trade Administration, Department of Commerce.

ACTION: Notice of extension of time limit for preliminary results of antidumping duty administrative review.

EFFECTIVE DATE: April 28, 2000.

FOR FURTHER INFORMATION CONTACT: Mark Hoadley, Import Administration, International Trade Administration, U.S. Department of Commerce, 14th Street and Constitution Avenue, N.W., Washington, D.C. 20230; telephone: (202) 482-0666.

The Applicable Statute

Unless otherwise indicated, all citations to the Tariff Act of 1930, as amended (the Act) are to the provisions effective January 1, 1995, the effective date of the amendments made to the Act by the Uruguay Round Agreements Act. In addition, unless otherwise indicated, all citations to the Department's regulations are to 19 CFR part 351 (1999).

Extension of Time Limit for Preliminary Results

The Department of Commerce has received a request to conduct an administrative review of the antidumping duty order on oil country tubular goods from Japan. The Department initiated this review for Hallmark Tubulars Ltd., Itochu Corporation, Itochu Project Management Corp., Nippon Steel Corp., and Sumitomo Metal Industries, Ltd. on October 1, 1999 (64 FR 53318). The review covers the period August 1, 1998 through July 31, 1999.

Because of the complexity of certain issues, it is not practicable to complete this review within the time limit mandated by section 751(a)(3)(A) of the Act. Therefore, in accordance with that section, the Department is extending the time limit for the preliminary results to August 11, 2000 (See Memorandum from Edward C. Yang to Joseph A. Spetrini, Extension of Time Limit, April 7, 2000).

Dated: April 7, 2000.
Joseph A. Spetrini,
Deputy Assistant Secretary for AD/CVD Enforcement Group III.

[FR Doc. 00-10528 Filed 4-27-00; 8:45 am]

BILLING CODE 3510-DS-P